DEPARTMENT OF ENERGY

Federal Energy Regulatory Commission

[Docket No. GT02-45-000]

Northern Natural Gas Company; Notice of Proposed Changes in FERC Tariff and Filing of Non-Conforming Agreement

October 1, 2002.

Take notice that on September 25, 2002, Northern Natural Gas Company (Northern) tendered for filing to become part of Northern's FERC Gas Tariff, Fifth Revised Volume No. 1, Eighth Revised Sheet No. 2, First Revised Sheet No. 492 and Sheet No. 493, proposed to be effective on October 28, 2002.

Northern states that the purpose of this filing is to submit a Master Netting and Setoff Agreement as a non-conforming agreement and to add a tariff sheet listing of non-conforming agreements.

Northern further states that copies of the filing have been mailed to each of its customers and interested State Commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's website at http://www.ferc.gov using the “FERRIS” link. Enter the docket number excluding the last three digits in the docket number field to access the document. For Assistance, call (202)502-8222 or for TTY, (202) 502-8659. Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-25542 Filed 10-7-02; 8:45 am]

BILLING CODE 6717-01-P